SECURITIES AND EXCHANGE COMMISSION

[File No. 500-1]

In the Matter of Vision Airships, Inc.; Order of Suspension of Trading

July 23, 2007.

It appears to the Securities and Exchange Commission that the public interest and the protection of investors require a suspension of trading in the securities of Vision Airships, Inc. (“Vision Airships”) because questions have arisen regarding the adequacy and accuracy of assertions made by Vision Airships in publicly disseminated press releases concerning among other things (1) The company's acquisition of blimps, (2) the existence of company negotiations with other entities for use of the blimps, (3) the company's funding for its global expansion, and (4) the potential annual revenues from airship use.

Vision Airships, a company traded in the Over-the-Counter market under the ticker symbol VPSN, has made no public filings with the Commission, and has recently been the subject of spam email touting the company's shares.

The Commission is of the opinion that the public interest and the protection of investors require a suspension of trading in the securities of the above listed company.

Therefore, it is ordered, pursuant to Section 12(k) of the Securities Exchange Act of 1934, that trading in the above listed company is suspended for the period from 9:30 a.m. EST July 23, 2007 through 11:59 p.m. EST, on August 3, 2007.

By the Commission.
J. Lynn Taylor,
Assistant Secretary.

[FR Doc. 07-3655 Filed 7-23-07; 10:48 am]

BILLING CODE 8010-01-P